DEPARTMENT OF THE INTERIOR

Geological Survey

Agency Information Collection Activity

AGENCY: United States Geological Survey (USGS).

ACTION: Notice of a new information collection.

SUMMARY: To comply with the Paperwork Reduction Act of 1995 (PRA), we are notifying the public that we have submitted to the Office of Management and Budget (OMB) a new information collection request (ICR) for approval of the paperwork requirements for the National Institutes for Water Resources (NIWR)-USGS competitive grant program conducted in conjunction with the State Water Resources Research Institutes.

DATES: You must submit comments on or before December 16, 2009.

ADDRESSES: Please submit comments on this information collection directly to the Office of Management and Budget, Office of Information and Regulatory Affairs, Attention: Desk Officer for the Department of the Interior, via e-mail [OIRA_DOCKET@omb.eop.gov] or fax (202) 395-5806; and identify your submission as 1028-NEW (NIWR). Please also submit a copy of your comments to Phadrea Ponds, USGS Information Collection Clearance Officer, 2150-C Center Avenue, Fort Collins, CO 80525 (mail); (970) 226-9230 (fax); or pponds@usgs.gov (e-mail). Please reference Information Collection 1028-NEW, NIWR in the subject line.

FOR FURTHER INFORMATION CONTACT: John E. Schefter, Chief Office of External Research, U.S. Geological Survey, 12201 Sunrise Valley Drive, MS 424, Reston, Virginia 20192 (mail) at (703) 648-6800 (Phone); or schefter@usgs.gov (e-mail).

SUPPLEMENTARY INFORMATION:

I. Abstract

The NIWR-USGS National Competitive Grant Program issues an annual call for proposals to support research on water problems and issues of a regional or interstate nature beyond those of concern only to a single state and which relate to specific program priorities identified jointly by the USGS and the state water resources research institutes authorized by the Water Resources Research Act of 1984, as amended (42 U.S.C. 10301 et seq.). Any investigator at an accredited institution of higher learning in the United States is eligible to apply for a grant through a water research institute or center established under the provisions of the Act. Proposals involving substantial collaboration between the USGS and university scientists are encouraged. Proposals may be for projects of 1 to 3 years in duration and may request up to $250,000 in federal funds. Successful applicants must match each dollar of the federal grant with one dollar from nonfederal sources. This program is authorized by the Water Resources Research Act of 1984, as amended (42 U.S.C. 10303(g)). The membership of the National Institutes for Water Resources consists solely of the State Water Resources Research Institutes. NIWR cooperates with the USGS in the identification of the research priorities and the solicitation and review of the proposals submitted to the NIWR-USGS National Competitive Grant Program.

II. Data

OMB Control Number: 1028-NEW.

Title: NIWR-USGS National Competitive Grant Program.

Respondent Obligation: Voluntary, necessary to obtain benefits.

Frequency of Collection: Annually.

Description of Respondents: Eligible applicants to this program are restricted to the 54 land grant universities housing the state water resources research institutes.

Estimated Number of Annual Responses: 72. We expect to receive approximately 65 applications and award 7 grants per year.

Annual Burden Hours: 3,984 hours. We expect to receive approximately 65 applications. It will take each applicant approximately 60 hours to complete the narrative and supporting documents. This includes the time for project conception and development, proposal writing, reviewing, and submitting the proposal application through Grants.gov (totaling 3,900 burden hours). We anticipate awarding 7 grants per year. The award recipients must submit a final report at the end of the project. We estimate that it will take approximately 12 hours to complete the requirement for that report (totaling 84 hours).

Annual Reporting and Recordkeeping “Non-Hour Cost”: We have not identified any “non-hour cost” burdens associated with this collection of information.

III. Request for Comments

On October 7, 2008, we published a Federal Register notice (73 FR 51645) announcing that we would submit this information collection to OMB for approval. The notice provided a 60-day comment period ending on December 7, 2008. We did not receive any comments in response to that notice.

We again invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology. Comments that you submit in response to this notice are a matter of public record. Before including your address, phone number, e-mail address or other personal identifying information in your comment, you should be aware that your entire comment including your personal identifying information, may be made publicly available at any time. While you can ask us in your comment to withhold your personal identifying information from public review, we cannot guarantee that we will be able to do so.

Dated: November 9, 2009.
John E. Schefter,
Water Resources Research Act Program Coordinator.

[FR Doc. E9-27422 Filed 11-13-09; 8:45 am]

BILLING CODE 4311-AM-P